FEDERAL RESERVE SYSTEM

12 CFR Part 227

[Regulation AA; Docket No. R-1252]

Unfair or Deceptive Acts or Practices

AGENCY: Board of Governors of the Federal Reserve System.

ACTION: Final Rule; Technical amendments.

SUMMARY: The Board is publishing technical amendments to Regulation AA (Unfair or Deceptive Acts or Practices) to update the addresses of the Federal Reserve Banks where consumer complaints regarding a state member bank may be sent.

dates: Effective Date: March 7, 2006.

FOR FURTHER INFORMATION CONTACT: Minh-Duc T. Le, Senior Attorney, Division of Consumer and Community Affairs, Board of Governors of the Federal Reserve System, at (202) 452-3667. For the users of Telecommunications Device for the Deaf (“TDD”) only, contact (202) 263-4869.

SUPPLEMENTARY INFORMATION: The Federal Trade Commission Act requires the Board to establish a separate division of consumer affairs to receive and take appropriate action upon complaints about unfair or deceptive acts or practices for banks under its jurisdiction. See 15 U.S.C. 57a(f). The procedures for submitting consumer complaints are contained in the Board's Regulation AA (12 CFR part 227). The regulation directs consumers having complaints regarding a state member bank to submit the complaint to the Board or the Federal Reserve Bank of the district in which the bank is located. 12 CFR 227.2(a). The Board is amending Regulation AA to update the addresses of the Reserve Banks where such complaints should be sent.

12 CFR Chapter II

List of Subjects in 12 CFR Part 227

Banks, banking, Consumer protection, Credit, Federal Reserve System, Finance.

Authority and Issuance

For the reasons set forth in the preamble, the Board amends 12 CFR part 227 to read as follows:

PART 227—UNFAIR OR DECEPTIVE ACTS OR PRACTICES (REGULATION AA)

1. The authority citation for part 227 continues to read as follows:

Authority: Section 18(f) of the Federal Trade Commission Act (15 U.S.C. 57a).

Subpart A—Consumer Complaints

2. Section 227.2—Consumer Complaint Procedure, paragraph (a)(2)(ii) is amended by revising the following Reserve Bank addresses to read as follows:

§ 227.2 Consumer Complaint Procedure.

(a) Submission of complaints.

(2) * * *

(ii) * * *

Federal Reserve Bank of Boston, 600 Atlantic Avenue, Boston, MA 02210.

* * * * *

Federal Reserve Bank of Philadelphia, 10 Independence Mall, Philadelphia, PA 19106.

* * * * *

Federal Reserve Bank of Atlanta, 1000 Peachtree Street, NE., Atlanta, GA 30309.

Federal Reserve Bank of Chicago, 230 South LaSalle Street, Chicago, IL 60604.

Federal Reserve Bank of St. Louis, P.O. Box 442, St. Louis, MO 63166-0442.

Federal Reserve Bank of Minneapolis, 90 Hennepin Avenue, Minneapolis, MN 55401.

Federal Reserve Bank of Kansas City, 925 Grand Boulevard, Kansas City, MO 64198.

Federal Reserve Bank of Dallas, 2200 North Pearl Street, Dallas, TX 75201.

Federal Reserve Bank of San Francisco, 101 Market Street, San Francisco, CA 94105.

* * * * *

By order of the Board of Governors of the Federal Reserve System, acting through the Secretary of the Board under delegated authority, March 1, 2006.
Jennifer J. Johnson,
Secretary of the Board.

[FR Doc. 06-2124 Filed 3-6-06; 8:45 am]

BILLING CODE 6210-01-P